FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201377-001.

Agreement Name: CMA CGM/COSCO Brazil—Caribbean U.S. Gulf Vessel Sharing Agreement.

Parties: CMA CGM S.A.; COSCO SHIPPING Lines Co., Ltd.

Filing Party: Draughn Arbona, CMA CGM (America) LLC.

Synopsis: The amendment increases the size of the vessels operating under the agreement, and revises certain administrative terms. The parties have requested expedited review.

Proposed Effective Date: 12/2/2022.

Location: https://www2.fmc.gov/FMC.Agreements.Web/Public/AgreementHistory/58503.

Dated: October 21, 2022.
William Cody,
Secretary.

[FR Doc. 2022-23358 Filed 10-26-22; 8:45 am]

BILLING CODE 6730-02-P